DEPARTMENT OF HEALTH AND HUMAN SERVICES

National Institutes of Health

Center for Scientific Review; Cancellation of Meeting

Notice is hereby given of the cancellation of the Center for Scientific Review Special Emphasis Panel, NIA-011_Digital Technologies as Tools to Screen and Monitor Alzheimer's Disease (AD) and Related Dementias (ADRD) December 18, 2025, 12:00 p.m. to December 18, 2025, 6:00 p.m., National Institutes of Health, Rockledge II, 6701 Rockledge Drive, Bethesda, MD 20892 which was published in the Federal Register on November 25, 2025, 90 FR 53330, Doc No. 2025-21053.

This meeting is being cancelled.

Dated: December 10, 2025.
Rosalind M. Niamke,
Program Analyst, Office of Federal Advisory Committee Policy.

[FR Doc. 2025-22795 Filed 12-12-25; 8:45 am]

BILLING CODE 4140-01-P